SECURITIES AND EXCHANGE COMMISSION

[Release No. IC-25758]

Notice of Applications for Deregistration Under Section 8(f) of the Investment Company Act of 1940

September 26, 2002.

The following is a notice of applications for deregistration under section 8(f) of the Investment Company Act of 1940 for the month of September, 2002. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on October 21, 2002, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus at (202) 942-0564, SEC, Division of Investment Management, Office of Investment Company Regulation, 450 Fifth Street, NW., Washington, DC 20549-0506.

ABN AMRO Funds [File No. 811-7244]

Summary: Applicant seeks an order declaring that it has ceased to be an investment company. On September 21, 2001 and September 26, 2001, applicant transferred its assets to ABN AMRO Funds (formerly known as Alleghany Funds), based on net asset value. Expenses of $140,000 incurred in connection with the reorganization were paid by ABN AMRO Asset Management (USA) LLC, applicant's investment adviser, and/or its affiliates.

Filing Date: The application was filed on September 17, 2002.

Applicant's Address: c/o PFPC Inc., 101 Federal St., Boston, MA 02110.

Principal High Yield Fund, Inc. [File No. 811-5174]

Summary: Applicant seeks an order declaring that it has ceased to be an investment company. On July 31, 2002, applicant transferred its assets to Principal Bond Fund, Inc., based on net asset value. Expenses of $67,399 incurred in connection with the reorganization were paid by applicant's investment adviser, Principal Management Corporation.

Filing Date: The application was filed on September 19, 2002.

Applicant's Address: 711 High St., Des Moines, IA 50392-0200.

Current Income Shares, Inc. [File No. 811-2357]

Summary: Applicant, a closed-end investment company, seeks an order declaring that it has ceased to be an investment company. On April 22, 2002, applicant transferred its assets to HighMark Bond Fund, a series of HighMark Funds, based on net asset value. Expenses of $291,400 incurred in connection with the reorganization were paid by applicant, HighMark Capital Management, Inc., applicant's investment adviser, and SEI Investments, HighMark Funds' administrator.

Filing Date: The application was filed on September 17, 2002.

Applicant's Address: 445 South Figueroa St., Suite 306, Los Angeles, CA 90071.

Putnam Asia Pacific Growth Fund [File No. 811-6202]

Summary: Applicant seeks an order declaring that it has ceased to be an investment company. On August 19, 2002, applicant transferred its assets to Putnam International Growth Fund, based on net asset value. Expenses of $565,744 incurred in connection with the reorganization were paid by applicant, the acquiring fund and Putnam Investment Management, LLC, applicant's investment adviser.

Filing Date: The application was filed on September 13, 2002.

Applicant's Address: One Post Office Square, Boston, MA 02109.

Putnam Strategic Income Fund [File No. 811-7221]

Summary: Applicant seeks an order declaring that it has ceased to be an investment company. On June 24, 2002, applicant transferred its assets to Putnam Diversified Income Trust, based on net asset value. Expenses of $77,800 incurred in connection with the reorganization were paid by applicant and the acquiring fund.

Filing Date: The application was filed on August 28, 2002.

Applicant's Address: One Post Office Square, Boston, MA 02109.

Intermediate Tax Free Portfolio [File No. 811-6700]

Summary: Applicant seeks an order declaring that it has ceased to be an investment company. On August 25, 2000, applicant transferred its assets to Municipal Bond Fund, based on net asset value. Expenses of $105,875 incurred in connection with the reorganization were paid by applicant and the acquiring fund.

Filing Date: The application was filed on September 3, 2002.

Applicant's Address: One South Street, Baltimore, MD 21202.

Alliance Money Market Fund [File No. 811-8838]

Summary: Applicant seeks an order declaring that it has ceased to be an investment company. By July 29, 2002, all shareholders of applicant had voluntarily redeemed their shares at net asset value. Applicant incurred no expenses in connection with the liquidation.

Filing Dates: The application was filed on August 7, 2002, and amended on September 13, 2002.

Applicant's Address: 1345 Avenue of the Americas, New York, NY 10105.

Variable Investors Series Trust [File No. 811-4969]

Summary: Applicant seeks an order declaring that it has ceased to be an investment company. On December 28, 2001, applicant made a liquidating distribution to its shareholders based on net asset value. Expenses of $55,675 incurred in connection with the liquidation were paid by First Variable Life Insurance Company, the parent of applicant's investment advisor.

Filing Date: The application was filed on August 30, 2002.

Applicant's Address: 2801 Highway 280 South, Birmingham, AL 35223.

For the Commission, by the Division of Investment Management, pursuant to delegated authority.
Margaret H. McFarland,
Deputy Secretary.

[FR Doc. 02-25005 Filed 10-1-02; 8:45 am]

BILLING CODE 8010-01-P y